DEPARTMENT OF ENERGY

Federal Energy Regulatory Commission

Combined Notice of Filings #1

September 16, 2010.

Take notice that the Commission received the following electric rate filings:

Docket Numbers: ER97-4281-023; ER99-2161-011; ER99-3000-010; ER02-1572-009; ER02-1571-009; ER99-1115-015; ER99-1116-015; ER00-2810-009; ER99-4359-008; ER99-4358-008; ER99-2168-011; ER98-1127-015; ER07-649-005; ER10-1291-001; ER09-1300-002; ER09-1301-002; ER99-2162-011; ER00-2807-009; ER00-2809-009; ER98-1796-014; ER07-1406-006; ER00-1259-011; ER99-4355-008; ER99-4356-008; ER00-3160-013; ER99-4357-008; ER00-3160-014; ER00-2313-010; ER02-2032-008; ER02-1396-008; ER02-1412-008; ER10-574-003; ER08-666-002; ER00-3718-010; ER99-3637-009; ER07-486-006; ER99-1712-011; ER00-2808-010; ER01-642-015.

Applicants: EL Segundo Power II LLC, Long Beach Generation LLC, Long Beach Peakers LLC, NRG Power Marketing Inc., Cabrillo Power I LLC, Cabrillo Power II LLC, El Segundo Power LLC, NRG Solar Blythe LLC, Saguaro Power Company, A Limited Partnership, Arthur Kill Power, LLC, Astoria Gas Turbine Power LLC, Bayou Cove Peaking Power LLC, Big Cajun I Peaking Power LLC, Conemaugh Power LLC, Connecticut Jet Power LLC, Devon Power LLC, Dunkirk Power LLC, GenConn Energy LLC, GenCon Devon LLC, GenConn Middletown LLC, Huntley Power LLC, Indian River Power LLC, Keystone Power LLC, Louisiana Generating LLC, Middletown Power LLC, Montville Power LLC, NEO Freehold-Gen LLC, Norwalk Power LLC, NRG Energy Center Dover LLC, NRG Energy Center Paxton LLC, NRG New Jersey Energy Sales LLC, NRG Rockford LLC, NRG Rockford II LLC, NRG Southaven LLC, NRG Sterlington Power, LLC, Oswego Harbor Power LLC, Somerset Power LLC, Vienna Power LLC, Cottonwood Energy Company LP.

Description: NRG MBR Entities et al. submits notice of change in status to notify the Commission that the NRG MBR Entities and Cottonwood expect to become affiliated by virtue of the proposed acquisition, etc.

Filed Date: 08/27/2010.

Accession Number: 20100909-0203.

Comment Date: 5 p.m. Eastern Time on Thursday, October 07, 2010.

Docket Numbers: ER10-2387-001.

Applicants: Tampa Electric Company.

Description: Tampa Electric Company submits tariff filing per 35.17(b): Amendment to Service Agreement No. 4 With Seminole Electric Cooperative to be effective 8/26/2010.

Filed Date: 09/16/2010.

Accession Number: 20100916-5072.

Comment Date: 5 p.m. Eastern Time on Thursday, September 30, 2010.

Docket Numbers: ER10-2657-000.

Applicants: Huntrise Energy Fund LLC.

Description: Huntrise Energy Fund LLC submits notice of cancellation of FERC Electric Tariff, Original Volume No. 1, to be effective September 30, 2010.

Filed Date: 09/15/2010.

Accession Number: 20100915-0205.

Comment Date: 5 p.m. Eastern Time on Wednesday, October 06, 2010.

Docket Numbers: ER10-2658-000.

Applicants: HOP Energy, LLC.

Description: HOP Energy, LLC submits an application for authorization to make wholesale sales of energy and capacity at negotiated, market-based rates.

Filed Date: 09/15/2010.

Accession Number: 20100915-0206.

Comment Date: 5 p.m. Eastern Time on Wednesday, October 06, 2010.

Docket Numbers: ER10-2659-000.

Applicants: Kennebec River Energy, LLC.

Description: Kennebec River Energy, LLC submits an application for authorization to make wholesale sales of energy and capacity at negotiated, market-based rates.

Filed Date: 09/15/2010.

Accession Number: 20100915-0207.

Comment Date: 5 p.m. Eastern Time on Wednesday, October 06, 2010.

Docket Numbers: ER10-2660-000.

Applicants: Turner Energy, LLC.

Description: Turner Energy, LLC submits an application for authorization to make wholesale sales of energy and capacity at negotiated, market-based rates.

Filed Date: 09/15/2010.

Accession Number: 20100915-0208.

Comment Date: 5 p.m. Eastern Time on Wednesday, October 06, 2010.

Docket Numbers: ER10-2661-000.

Applicants: Viridian Energy NY LLC.

Description: Viridian Energy NY LLC submits Petition for Acceptance of Initial Tariff, Waivers and Blanket Authority.

Filed Date: 09/15/2010.

Accession Number: 20100915-0202.

Comment Date: 5 p.m. Eastern Time on Wednesday, October 06, 2010.

Docket Numbers: ER10-2662-000.

Applicants: MidAmerican Energy Company.

Description: MidAmerican Energy Company submits an Amended and Restated Services Agreement for Substation Operator Services etc with Cordova Energy Center LLC.

Filed Date: 09/15/2010.

Accession Number: 20100915-0209.

Comment Date: 5 p.m. Eastern Time on Wednesday, October 06, 2010.

Docket Numbers: ER10-2663-000.

Applicants: Southern Company—Florida LLC.

Description: Southern Company—Florida LLC submits tariff filing per 35.12: Baseline Filing to be effective 9/15/2010.

Filed Date: 09/15/2010.

Accession Number: 20100915-5198.

Comment Date: 5 p.m. Eastern Time on Wednesday, October 06, 2010.

Docket Numbers: ER10-2664-000.

Applicants: Southern California Edison Company.

Description: Southern California Edison Company submits a Revised Small Generator Interconnection Facilities Agreement and Service Agreement etc with FlexEnergy, LLC, to be effective 11/16/2010.

Filed Date: 09/16/2010.

Accession Number: 20100916-5005.

Comment Date: 5 p.m. Eastern Time on Thursday, October 07, 2010.

Docket Numbers: ER10-2665-000.

Applicants: UNS Electric, Inc.

Description: UNS Electric, Inc. submits its Baseline Filing—UNS Electric, Inc. Open Access Transmission Tariff to be effective 9/14/2010.

Filed Date: 09/16/2010.

Accession Number: 20100916-5006.

Comment Date: 5 p.m. Eastern Time on Thursday, October 07, 2010.

Docket Numbers: ER10-2666-000.

Applicants: New England Power Company.

Description: New England Power Company submits tariff filing per 35: New England Power Compliance Filing of Baseline Market Based Rate Tariff to be effective 9/16/2010.

Filed Date: 09/16/2010.

Accession Number: 20100916-5050.

Comment Date: 5 p.m. Eastern Time on Thursday, October 07, 2010.

Docket Numbers: ER10-2667-000.

Applicants: Invenergy Cannon Falls LLC.

Description: Invenergy Cannon Falls LLC submits tariff filing per 35.12: Initial Baseline Filing of Reactive Power Tariff to be effective 9/16/2010.

Filed Date: 09/16/2010.

Accession Number: 20100916-5056.

Comment Date: 5 p.m. Eastern Time on Thursday, October 07, 2010.

Docket Numbers: ER10-2668-000.

Applicants: EDFD-Handsome Lake.

Description: EDFD-Handsome Lake submits tariff filing per 35.12: EDFD-Handsome Lake Baseline to be effective 9/16/2010.

Filed Date: 09/16/2010.

Accession Number: 20100916-5057.

Comment Date: 5 p.m. Eastern Time on Thursday, October 07, 2010.

Docket Numbers: ER10-2669-000.

Applicants: ANP Bellingham Energy Company, LLC.

Description: ANP Bellingham Energy Company, LLC submits tariff filing per 35.12: Baseline MBR Tariff Filing of ANP Bellingham Energy Company, LLC to be effective 9/16/2010.

Filed Date: 09/16/2010.

Accession Number: 20100916-5058.

Comment Date: 5 p.m. Eastern Time on Thursday, October 07, 2010.

Docket Numbers: ER10-2670-000.

Applicants: ANP Blackstone Energy Company, LLC.

Description: ANP Blackstone Energy Company, LLC submits tariff filing per 35.12: Baseline MBR Tariff Filing of ANP Blackstone Energy Company, LLC to be effective 9/16/2010.

Filed Date: 09/16/2010.

Accession Number: 20100916-5059.

Comment Date: 5 p.m. Eastern Time on Thursday, October 07, 2010.

Docket Numbers: ER10-2671-000.

Applicants: ANP Funding I, LLC.

Description: ANP Funding I, LLC submits tariff filing per 35.12: Baseline MBR Tariff Filing of ANP Funding I, LLC to be effective 9/16/2010.

Filed Date: 09/16/2010.

Accession Number: 20100916-5060.

Comment Date: 5 p.m. Eastern Time on Thursday, October 07, 2010.

Docket Numbers: ER10-2672-000.

Applicants: ANP Marketing Company.

Description: ANP Marketing Company submits tariff filing per 35.12: Baseline MBR Tariff Filing of ANP Marketing Company to be effective 9/16/2010.

Filed Date: 09/16/2010.

Accession Number: 20100916-5061.

Comment Date: 5 p.m. Eastern Time on Thursday, October 07, 2010.

Docket Numbers: ER10-2673-000.

Applicants: Armstrong Energy Limited Partnership, L.L.L.P.

Description: Armstrong Energy Limited Partnership, L.L.L.P. submits tariff filing per 35.12: Baseline MBR Tariff Filing of Armstrong Energy Limited Partnership, L.L.L.P. to be effective 9/16/2010.

Filed Date: 09/16/2010.

Accession Number: 20100916-5062.

Comment Date: 5 p.m. Eastern Time on Thursday, October 07, 2010.

Docket Numbers: ER10-2674-000.

Applicants: Calumet Energy Team, LLC.

Description: Calumet Energy Team, LLC submits tariff filing per 35.12: Baseline MBR Tariff Filing of Calumet Energy Team, LLC to be effective 9/16/2010.

Filed Date: 09/16/2010.

Accession Number: 20100916-5064.

Comment Date: 5 p.m. Eastern Time on Thursday, October 07, 2010.

Docket Numbers: ER10-2675-000.

Applicants: IPA Trading, Inc.

Description: IPA Trading, Inc. submits tariff filing per 35.12: Baseline MBR Tariff Filing of IPA Trading, Inc. to be effective 9/16/2010.

Filed Date: 09/16/2010.

Accession Number: 20100916-5065.

Comment Date: 5 p.m. Eastern Time on Thursday, October 07, 2010.

Docket Numbers: ER10-2676-000.

Applicants: Milford Power Limited Partnership.

Description: Milford Power Limited Partnership submits tariff filing per 35.12: Baseline MBR Tariff Filing of Milford Power Limited Partnership to be effective 9/16/2010.

Filed Date: 09/16/2010.

Accession Number: 20100916-5066.

Comment Date: 5 p.m. Eastern Time on Thursday, October 07, 2010.

Docket Numbers: ER10-2677-000.

Applicants: Pleasants Energy, LLC.

Description: Pleasants Energy, LLC submits tariff filing per 35.12: Baseline MBR Tariff Filing of Pleasants Energy, LLC to be effective 9/16/2010.

Filed Date: 09/16/2010.

Accession Number: 20100916-5069.

Comment Date: 5 p.m. Eastern Time on Thursday, October 07, 2010.

Docket Numbers: ER10-2678-000.

Applicants: Troy Energy, LLC.

Description: Troy Energy, LLC submits tariff filing per 35.12: Baseline MBR Tariff Filing of Troy Energy, LLC to be effective 9/16/2010.

Filed Date: 09/16/2010.

Accession Number: 20100916-5071.

Comment Date: 5 p.m. Eastern Time on Thursday, October 07, 2010.

Docket Numbers: ER10-2679-000.

Applicants: Puget Sound Energy, Inc.

Description: Puget Sound Energy, Inc. submits tariff filing per 35.15: Cancellation of Gas Tariff—Jackson Prairie to be effective 9/16/2010.

Filed Date: 09/16/2010.

Accession Number: 20100916-5079.

Comment Date: 5 p.m. Eastern Time on Thursday, October 07, 2010.

Docket Numbers: ER10-2680-000.

Applicants: Puget Sound Energy, Inc.

Description: Puget Sound Energy, Inc. submits tariff filing per 35.12: OATT—Open Access Transmission Tariff to be effective 9/15/2010.

Filed Date: 09/16/2010.

Accession Number: 20100916-5084.

Comment Date: 5 p.m. Eastern Time on Thursday, October 07, 2010.

Docket Numbers: ER10-2681-000.

Applicants: Niagara Mohawk Power Corporation.

Description: Niagara Mohawk Power Corporation submits tariff filing per 35: Niagara Mohawk Power Company Filing of Baseline Market Based Rate Tariff to be effective 9/16/2010.

Filed Date: 09/16/2010.

Accession Number: 20100916-5091.

Comment Date: 5 p.m. Eastern Time on Thursday, October 07, 2010.

Docket Numbers: ER10-2682-000.

Applicants: Granite State Electric Company.

Description: Granite State Electric Company submits tariff filing per 35: Granite State Electric Compliance Filing of Baseline Market Based Rate Tariff to be effective 9/16/2010.

Filed Date: 09/16/2010.

Accession Number: 20100916-5097.

Comment Date: 5 p.m. Eastern Time on Thursday, October 07, 2010.

Docket Numbers: ER10-2683-000.

Applicants: EDF Inc.

Description: EDF Inc. submits tariff filing per 35.12: EDF Inc. Baseline Filing to be effective 9/16/2010.

Filed Date: 09/16/2010.

Accession Number: 20100916-5100.

Comment Date: 5 p.m. Eastern Time on Thursday, October 07, 2010.

Docket Numbers: ER10-2684-000.

Applicants: Kentucky Utilities Company.

Description: Notice of Cancellation of Kentucky Utilities Company.

Filed Date: 09/16/2010.

Accession Number: 20100916-5101.

Comment Date: 5 p.m. Eastern Time on Thursday, October 07, 2010.

Docket Numbers: ER10-2685-000.

Applicants: The Potomac Edison Company.

Description: The Potomac Edison Company submits tariff filing per 35.12: Potomac Edison OATT baseline to be effective 9/16/2010.

Filed Date: 09/16/2010.

Accession Number: 20100916-5103.

Comment Date: 5 p.m. Eastern Time on Thursday, October 07, 2010.

Docket Numbers: ER10-2687-000.

Applicants: Monongahela Power Company.

Description: Monongahela Power Company submits tariff filing per 35.12: Allegheny Power Market Rate Tariff Baseline Filing to be effective 9/16/2010.

Filed Date: 09/16/2010.

Accession Number: 20100916-5108.

Comment Date: 5 p.m. Eastern Time on Thursday, October 07, 2010.

Docket Numbers: ER10-2688-000.

Applicants: The Potomac Edison Company.

Description: The Potomac Edison Company submits tariff filing per 35.12: Allegheny Power Market Tariff (Potomac Edison) to be effective 9/16/2010.

Filed Date: 09/16/2010.

Accession Number: 20100916-5110.

Comment Date: 5 p.m. Eastern Time on Thursday, October 07, 2010.

Docket Numbers: ER10-2689-000.

Applicants: West Penn Power Company.

Description: West Penn Power Company submits tariff filing per 35.12: Allegheny Power Market Tariff (West Penn) baseline to be effective 9/16/2010.

Filed Date: 09/16/2010.

Accession Number: 20100916-5111.

Comment Date: 5 p.m. Eastern Time on Thursday, October 07, 2010.

Docket Numbers: ER10-2690-000.

Applicants: The Potomac Edison Company.

Description: The Potomac Edison Company submits tariff filing per 35.12: Potomac Edison First Revised Volume No. 3 Baseline filing to be effective 9/16/2010.

Filed Date: 09/16/2010.

Accession Number: 20100916-5113.

Comment Date: 5 p.m. Eastern Time on Thursday, October 07, 2010.

Docket Numbers: ER10-2691-000.

Applicants: The Narragansett Electric Company.

Description: The Narragansett Electric Company submits tariff filing per 35: Narragansett Electric Compliance Filing of Baseline Market Based Rate Tariff to be effective 9/16/2010.

Filed Date: 09/16/2010.

Accession Number: 20100916-5116.

Comment Date: 5 p.m. Eastern Time on Thursday, October 07, 2010.

Docket Numbers: ER10-2692-000.

Applicants: EDFD-Perryman.

Description: EDFD-Perryman submits tariff filing per 35.12: EDF-Perryman Baseline to be effective 9/16/2010.

Filed Date: 09/16/2010.

Accession Number: 20100916-5117.

Comment Date: 5 p.m. Eastern Time on Thursday, October 07, 2010.

Docket Numbers: ER10-2693-000.

Applicants: National Grid Glenwood Energy Center LLC.

Description: National Grid Glenwood Energy Center LLC submits tariff filing per 35: National Grid—Glenwood Compliance Filing of Baseline Market Based Rate Tariff to be effective 9/16/2010.

Filed Date: 09/16/2010.

Accession Number: 20100916-5119.

Comment Date: 5 p.m. Eastern Time on Thursday, October 07, 2010.

Docket Numbers: ER10-2694-000.

Applicants: EDFD-Keystone.

Description: EDFD-Keystone submits tariff filing per 35.12: EDFD Keystone Baseline to be effective 9/16/2010.

Filed Date: 09/16/2010.

Accession Number: 20100916-5121.

Comment Date: 5 p.m. Eastern Time on Thursday, October 07, 2010.

Docket Numbers: ER10-2695-000.

Applicants: National Grid Port Jefferson.

Description: National Grid Port Jefferson submits tariff filing per 35: National Grid—Port Jeff Compliance Filing of Baseline Market Based Rate Tariff to be effective 9/16/2010.

Filed Date: 09/16/2010.

Accession Number: 20100916-5122.

Comment Date: 5 p.m. Eastern Time on Thursday, October 07, 2010.

Docket Numbers: ER10-2696-000.

Applicants: EDFD-Conemaugh.

Description: EDFD-Conemaugh submits tariff filing per 35.12: EDFD Conemaugh Baseline to be effective 9/16/2010.

Filed Date: 09/16/2010.

Accession Number: 20100916-5125.

Comment Date: 5 p.m. Eastern Time on Thursday, October 07, 2010.

Take notice that the Commission received the following electric securities filings:

Docket Numbers: ES10-59-000.

Applicants: South Carolina Generating Company, Inc.

Description: Application of South Carolina Electric & Gas Company and South Carolina Generating Company, Inc. for Authority to Issue Short-term Debt Securities.

Filed Date: 09/15/2010.

Accession Number: 20100915-5207.

Comment Date: 5 p.m. Eastern Time on Wednesday, October 06, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-24086 Filed 9-24-10; 8:45 am]

BILLING CODE 6717-01-P